DEPARTMENT OF ENERGY

Federal Energy Regulatory Commission

[P-12646-001]

City of Broken Bow; Notice of Application Tendered for Filing With the Commission, Soliciting Additional Study Requests, and Establishing Procedures for Relicensing and a Deadline for Submission of Final Amendments

July 7, 2006.

Take notice that the following hydroelectric application has been filed with the Commission and is available for public inspection.

a. Type of Application: Original Major License.

b. Project No.: 12646-001.

c. Date filed: July 6, 2006.

d. Applicant: City of Broken Bow.

e. Name of Project: Pine Creek Lake Dam Hydropower Project.

f. Location: On the Little River in McCurtain County, Oklahoma. The project would be located at the United States Army Corps of Engineers' (Corps) Pine Creek Lake Dam and would occupy several acres of land administered by the Corps.

g. Filed Pursuant to: Federal Power Act 16 U.S.C. 791(a)-825(r).

h. Applicant Contact: Olen Hill, City Manager, City of Broken Bow, Oklahoma; 210 North Broadway; Broken Bow, Oklahoma 74728; (405) 584-2282.

i. FERC Contact: Carolyn Holsopple at (202) 502-6407, or carolyn.holsopple@ferc.gov.

j. Cooperating Agencies: We are asking Federal, state, local, and tribal agencies with jurisdiction and/or special expertise with respect to environmental issues to cooperate with us in the preparation of the environmental document. Agencies who would like to request cooperating status should follow the instructions for filing comments described in item (l) below.

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for Filing Additional Study Requests and Requests for Cooperating Agency Status: 60 days from the filing date shown in paragraph (c), or September 4, 2006.

All documents (original and eight copies) should be filed with: Magalie R. Salas, Secretary, Federal Energy Regulatory Commission, 888 First Street, NE., Washington, DC 20426.

Additional study requests may be filed electronically via the Internet in lieu of paper. The Commission strongly encourages electronic filing. See 18 CFR 385.2001(a)(1)(iii) and the instructions on the Commission's Web site (http://www.ferc.gov) under the “e-Filing” link. After logging into the e-Filing system, select “Comment on Filing” from the Filing Type Selection screen and continue with the filing process.”

m. Status: This application is not ready for environmental analysis at this time.

n. Description of Project: The proposed project, using the existing Pine Creek Dam and Reservoir, would consist of: (1) A diversion structure connecting to the existing outlet conduit; (2) a penstock connecting the diversion structure to the powerhouse; (3) a 112-foot-wide by 73-foot-long powerhouse containing two turbine-generator units, having a totaled installed capacity of 6.4 megawatts; (4) a tailrace returning flows to the Little River; (5) a one-mile-long, 14.4-kilovolt transmission line or a 6.5-mile-long, 13.8 kilovolt transmission line connecting to an existing distribution line; and (6) appurtenant facilities. The project would have an average annual generation of 16,200 megawatt-hours.

o. A copy of the application is available for review at the Commission in the Public Reference Room or may be viewed on the Commission's Web site at http://www.ferc.gov using the “eLibrary” link. Enter the docket number, excluding the last three digits in the docket number field (P-12646), to access the document. For assistance, contact FERC Online Support at FERCOnlineSupport@ferc.gov, or toll-free at 1-866-208-3676, or for TTY, (202) 502-8659. A copy is also available for inspection and reproduction at the address in item (h) above.

You may also register online at http://www.ferc.gov/esubscribenow.htm to be notified via e-mail of new filings and issuances related to this or other pending projects. For assistance, contact FERC Online Support.

p. With this notice, we are initiating consultation with the OKLAHOMA STATE HISTORIC PRESERVATION OFFICER (SHPO), as required by section 106, National Historic Preservation Act, and the regulations of the Advisory Council on Historic Preservation, 36 CFR 800.4.

q. Procedural schedule and final amendments: The application will be processed according to the following Hydro Licensing Schedule. Revisions to the schedule will be made if the Commission determines it necessary to do so:

Action | Tentative date
Issue Deficiency Letter | September 2006.
Request Additional Information | November 2006.
Issue Acceptance letter | December 2006.
Issue Scoping Document 1 for comments | February 2007.
Request Additional Information (if necessary) | April 2007.
Issue Scoping Document 2 | May 2007.
Notice that application is ready for environmental analysis | July 2007.
Notice of the availability of the draft EA | January 2008.
Notice of the availability of the final EA (if necessary) | April 2008.
Ready for Commission's decision on the application | April 2008.

Final amendments to the application must be filed with the Commission no later than 30 days from the issuance date of this notice.

Magalie R. Salas,
Secretary.

[FR Doc. E6-11180 Filed 7-14-06; 8:45 am]

BILLING CODE 6717-01-P